DEPARTMENT OF HEALTH AND HUMAN SERVICES

Centers for Disease Control and Prevention

Fees for Sanitation Inspection of Cruise Ships

AGENCY: Centers for Disease Control and Prevention (CDC), Department of Health and Human Services (HHS).

ACTION: General notice.

SUMMARY: The Centers for Disease Control and Prevention (CDC), located within the Department of Health and Human Services (HHS), announces fees for vessel sanitation inspections for Fiscal Year (FY) 2023. These inspections are conducted by HHS/CDC's Vessel Sanitation Program (VSP). VSP helps the cruise ship industry fulfill its responsibility for developing and implementing comprehensive sanitation programs to minimize the risk for acute gastroenteritis. Every vessel that has a foreign itinerary and carries 13 or more passengers is subject to twice-yearly unannounced operations inspections and, when necessary, reinspection.

DATES: These fees apply to inspections conducted from January 1, 2023, through September 30, 2023.

FOR FURTHER INFORMATION CONTACT: CDR Andrew Kupper, Acting Chief, Vessel Sanitation Program, National Center for Environmental Health, Centers for Disease Control and Prevention, 4770 Buford Highway NE, MS 106-6, Atlanta, Georgia 30341-3717; phone: 800-323-2132; email: vsp@cdc.gov.

SUPPLEMENTARY INFORMATION:

Purpose and Background

HHS/CDC established the Vessel Sanitation Program (VSP) in the 1970s as a cooperative activity with the cruise ship industry. VSP helps the cruise ship industry prevent and control the introduction, transmission, and spread of gastrointestinal illnesses on cruise ships. VSP operates under the authority of the Public Health Service Act (section 361 of the Public Health Service Act; 42 U.S.C. 264, “Control of Communicable Diseases”). Regulations found at 42 CFR 71.41 (Foreign Quarantine—Requirements Upon Arrival at U.S. Ports: Sanitary Inspection; General Provisions) state that carriers arriving at U.S. ports from foreign areas are subject to sanitary inspections to determine whether there exists rodent, insect, or other vermin infestations; contaminated food or water; or other sanitary conditions requiring measures for the prevention of the introduction, transmission, or spread of communicable diseases. VSP's mandate is specific to preventing and controlling gastrointestinal illnesses on cruise ships.

The fee schedule for sanitation inspections of passenger cruise ships by VSP was first published in the Federal Register on November 24, 1987 (52 FR 45019). HHS/CDC began collecting fees on March 1, 1988. This notice announces fees for inspections conducted during FY 2023 (beginning on January 1, 2023, through September 30, 2023).

The following formula will be used to determine the fees:

Total cost of VSP includes the total cost of operating the program, such as administration, travel, staffing, sanitation inspections, and outbreak response.

The weighted number of annual inspections includes the total number of ships and inspections per year accounting for vessel size, number of inspectors needed for vessel size, travel logistics to conduct inspections, and vessel location and arrivals in U.S. jurisdiction per year.

The fee schedule was most recently published in the Federal Register on August 21, 2019 (84 FR 43602). The fee schedule for FY 2023 is presented in appendix A.

Fee

The fee schedule (appendix A) applies to inspections conducted from January 1, 2023, through September 30, 2023.

Applicability

The fees will apply to all passenger cruise vessels for which inspections are conducted as part of HHS/CDC's VSP.

Angela K. Oliver,
Executive Secretary, Centers for Disease Control and Prevention.

Appendix A

Fee Schedule for Each Vessel Size—Operations Inspections and Reinspections
Vessel size (GRT ¹) | Inspection fee (US$)
Extra Small (<3,000 GRT) | 1,495
Small (3,001-15,000 GRT) | 2,990
Medium (15,001-30,000 GRT) | 5,980
Large (30,001-60,000 GRT) | 8,970
Extra Large (60,001-120,000 GRT) | 11,960
Mega (120,001-140,000 GRT) | 17,940
Super Mega (>140,001 GRT) | 23,920
¹ Gross register tonnage in cubic feet, as shown in Lloyd's Register of Shipping.

Operations inspections and reinspections involve the same procedures and require the same amount of time, so they are charged at the same rates.

Fee Schedule for Each Vessel Size—Construction and Renovation Inspections
Vessel size (GRT ¹) | Inspection fee (US$)
Extra Small (<3,000 GRT) | 2,990
Small (3,001-15,000 GRT) | 5,980
Medium (15,001-30,000 GRT) | 11,960
Large (30,001-60,000 GRT) | 17,940
Extra Large (60,001-120,000 GRT) | 23,920
Mega (120,001-140,000 GRT) | 35,880
Super Mega (>140,001 GRT) | 47,840
¹ Gross register tonnage in cubic feet, as shown in Lloyd's Register of Shipping.

Construction and renovation inspections require at least twice the amount of time as operations inspections, so they are charged double the rates.

[FR Doc. 2022-26159 Filed 11-30-22; 8:45 am]

BILLING CODE 4163-18-P